DEPARTMENT OF COMMERCE

National Oceanic and Atmospheric Administration

50 CFR Part 679

[Docket No. 991228352-0182-03; I.D. 121099C, 011100D]

RIN 0648-AM83

Fisheries of the Exclusive Economic Zone Off Alaska; Emergency Interim Rules to Implement the American Fisheries Act; Extension of Expiration Dates

AGENCY: National Marine Fisheries Service (NMFS), National Oceanic and Atmospheric Administration (NOAA), Commerce.

ACTION: Extension and revision of emergency interim rules; revision to 2000 final harvest specifications; request for comments.

SUMMARY: On January 5, 2000, and January 28, 2000, NMFS published emergency interim rules, effective through June 27, 2000, and July 20, 2000, respectively, that implemented major provisions of the American Fisheries Act (AFA) for the 2000 fishing year. This action revises and extends these two emergency interim rules through December 24, 2000, and January 16, 2001, respectively. This action also revises the 2000 final harvest specifications for the pollock fisheries off Alaska to make final allocations of pollock to inshore cooperatives. This emergency action is necessary to provide inshore pollock cooperatives with allocations of pollock for the second half of the 2000 fishing year as required by the AFA. This emergency action also is necessary to maintain sideboard restrictions to protect participants in other Alaska fisheries from negative impacts as a result of fishery cooperatives formed under the AFA.

DATES: The expiration date of the emergency interim rule published January 5, 2000 (65 FR 380), is extended from June 27, 2000, to December 24, 2000. The expiration date of the emergency interim rule published January 28, 2000 (65 FR 4520), is extended from July 20, 2000, to January 16, 2001. The amendments in this rule are effective July 20, 2000, through January 16, 2001, except that the amendments for § 679.4 are effective June 28, 2000, through December 24, 2000. Comments must be received by July 24, 2000.

ADDRESSES: Comments may be sent to Sue Salveson, Assistant Regional Administrator, Sustainable Fisheries Division, Alaska Region, NMFS, P.O. Box 21668, Juneau, AK 99802, Attn: Lori Gravel, or delivered to the Federal Building, 709 West 9th Street, Juneau, AK. Copies of the environmental assessment/regulatory impact review (EA/RIR) prepared for these emergency rules may be obtained from the same address. The EA/RIR also is available on the Alaska Region home page at http://www.fakr.noaa.gov.

FOR FURTHER INFORMATION CONTACT: Kent Lind, 907-586-7228 or kent.lind@noaa.gov.

SUPPLEMENTARY INFORMATION: The AFA, Div. C, Title II, Subtitle II, Pub. L. No. 105-277, 112 Stat. 2681 (1998), made profound changes in the management of the groundfish fisheries of the Bering Sea and Aleutian Islands (BSAI) and, to a lesser extent, the groundfish fisheries of the Gulf of Alaska (GOA) and crab fisheries of the BSAI. NMFS implemented the AFA for the 2000 fishery through two emergency interim rules. The first emergency interim rule (65 FR 380, January 5, 2000) established permit requirements and pre-season permit application procedures for AFA vessels, processors, and inshore catcher vessel cooperatives.

The second emergency interim rule (65 FR 4520, January 28, 2000) implemented the major AFA-related management measures for the 2000 fisheries including: a new formula to allocate the Bering Sea and Aleutian Islands Management Area (BSAI) pollock total allowable catch (TAC) among the Western Alaska Community Development Quota (CDQ) program and the inshore, catcher/processor, and mothership industry sectors; new recordkeeping and reporting requirements for the BSAI pollock fishery and for processors that receive groundfish from AFA catcher vessels; new observer coverage and scale requirements for AFA catcher/processors, AFA motherships, and AFA inshore processors; new regulations to govern BSAI pollock fishery cooperatives formed under the AFA; harvesting restrictions on AFA catcher vessels and AFA catcher/processors to limit effort by such vessels in other groundfish and crab fisheries; crab processing restrictions on AFA motherships and AFA inshore processors that receive pollock harvested by a cooperative in a BSAI directed pollock fishery; revised interim groundfish harvest specifications for the BSAI and GOA; and interim allocations of pollock TAC to inshore pollock cooperatives.

At its April 2000 meeting, the North Pacific Fishery Management Council (Council) voted to recommend extension of these two emergency rules for an additional 180 days. The Council also recommended revisions to the emergency interim rules to impose December 1 permit application deadlines as described below.

The preambles to the original emergency interim rules provide a detailed description of the purpose and need for these two actions. This action extends the expiration date of the first emergency interim rule (65 FR 380, January 5, 2000) from June 27, 2000, to December 24, 2000; and extends the expiration date of the second emergency interim rule (65 FR 4520, January 28, 2000) from July 20, 2000, to January 16, 2001.

This action also makes two changes to the permit application deadlines set out in the first emergency interim rule (65 FR 380. January 5, 2000). Finally, this action establishes final annual allocations of Bering Sea subarea pollock to inshore cooperatives and to the “open access” vessels not fishing in cooperatives. These changes are described here.

December 1, 2000, Deadline for AFA Vessel and Processor Permits

The first emergency interim rule (65 FR 380, January 5, 2000) is revised to establish a one-time application deadline of December 1, 2000, for all AFA vessel and processor permits. Applications for AFA vessel or processor permits will not be accepted after this date and any vessels or processors for which an application has not been received by this date will be permanently ineligible to receive AFA permits. The purpose of this application deadline is to finalize the list of vessels and processors to which AFA fishing privileges and sideboard restrictions apply. A final list of AFA-permitted vessels is necessary because inshore cooperative allocations and catcher vessel sideboards are based on the aggregate catch histories of the various AFA permitted fleets. The Council recommended imposition of this December 1, 2000, deadline so that the size and composition of the various AFA fleets would be known prior to the adoption of permanent AFA sideboard and cooperative regulations. The Council believed it was important to know the size and composition of the various AFA fleets so that the appropriateness of sideboard and cooperative measures might be more effectively evaluated before final AFA regulations are issued.

A December 1, 2000, deadline is also necessary to allow NMFS to finalize 2001 cooperative allocations and sideboard amounts in the 2001 proposed, interim, and final specifications. Allowing vessels to apply for and receive AFA permits after December 1, 2000, would require that NMFS publish revisions to the published sideboards and cooperative allocations each time a new vessel receives an AFA permit. Such inseason revisions to cooperative and sideboard amounts could be disruptive to attempts by catcher vessel cooperatives to manage pollock and sideboard fishing in a cooperative manner.

December 1 Annual Deadline for Inshore Catcher Vessel Cooperative Permit Applications

The first emergency interim rule (65 FR 380, January 5, 2000) is revised to establish an annual application deadline of December 1 prior to the year in which the cooperative fishing permit will be in effect for inshore catcher vessel cooperative permit applications. Applications for annual cooperative fishing permits and revisions to such applications to add or subtract member vessels would not be accepted after December 1 of each year. The current emergency rule has an application deadline of December 31 prior to the year in which the cooperative fishing permit will be in effect. This December 31 deadline was necessary for 1999, because the emergency interim rule was not effective until December 30, 1999. An annual December 1 deadline is necessary: (1) to provide the Council with the opportunity to review cooperative contracts at its annual December meeting prior to making final TAC recommendations for the upcoming fishing year, and (2) because the membership of each cooperative must be finalized before interim pollock TAC allocations can be made to inshore catcher vessel cooperatives. Because the interim specifications must be published prior to January 1 of each year, NMFS cannot wait until December 31 to finalize membership in inshore cooperatives.

Final 2000 Inshore Allocations of Bering Sea Subarea Pollock

Tables 1 and 2 of the emergency interim rule (establishing general AFA regulations) (65 FR 4520, January 28, 2000) contained interim 2000 Bering Sea pollock allocations to the cooperative and open access sectors of the inshore pollock fishery. These interim TAC allocations were based on the BSAI interim 2000 harvest specifications for groundfish published on January 3, 2000 (65 FR 60). Since then, NMFS has published BSAI final 2000 harvest specifications for groundfish (65 FR 8282, February 18, 2000). This action amends the BSAI final 2000 harvest specifications for groundfish by establishing final 2000 Bering Sea pollock allocations to the cooperative and open access sectors of the inshore pollock fishery as set out in Tables 1 and 2.

Table 1.—Final C/D Season Bering Sea Subarea Pollock Allocations to the Cooperative and Open Access Sectors of the Inshore Pollock Fishery. Amounts are Expressed in Metric Tons
| C/D season TAC | C season inside SCA ¹ | D season inside SCA
Cooperative sector |  |  |
Vessels > 99 ft | n/a | n/a | 53,273
Vessels ≤ 99 ft | n/a | n/a | 8,157
Total | 274,200 | 36,858 | 61,430
Open access sector | 17,953 | 2,582 | 4,304²
Total inshore | 292,153 | 39,440 | 65,734
¹ Steller sea lion conservation area established at § 679.22(a)(11)(iv).
² SCA limitations for vessels less than or equal to 99 ft LOA that are not participating in a cooperative will be established on an inseason basis in accordance with § 679.22(a)(11)(iv)(D)(2) which specifies that “the Regional Administrator will prohibit directed fishing for pollock by vessels catching pollock for processing by the inshore component greater than 99 ft (30.2 m) LOA before reaching the inshore SCA harvest limit during the A, B and D seasons to accommodate fishing by vessels less than or equal to 99 ft (30.2 m) inside the SCA for the duration of the inshore seasonal opening.”

The first emergency interim rule (65 FR 380, January 5, 2000) establishes procedures for AFA inshore catcher vessel pollock cooperatives to apply for and receive cooperative fishing permits and inshore pollock allocations. NMFS received applications from seven inshore catcher vessel cooperatives by the application deadline of December 31, 1999. Table 2 makes final 2000 Bering Sea subarea allocations to the seven inshore catcher vessel pollock cooperatives that have been approved and permitted by NMFS for the 2000 fishing year. Final allocations for cooperatives and vessels not participating in cooperatives are not made for the Aleutian Islands subarea because the Aleutian Islands subarea has been closed to directed fishing for pollock under the emergency interim rule to implement Steller sea lion protection measures (65 FR 3892, January 25, 2000; 65 FR 36795, June 12, 2000).

Table 2.—Bering Sea Subarea Final 2000 Inshore Cooperative Allocations
Cooperative name and member vessels | Sum of member vessel's official catch histories ¹ | Percentage of inshore sector allocation | Final annual co-op allocation
Akutan Catcher Vessel Association
ALDEBARAN, ARCTIC I, ARCTIC VI, ARCTURUS, BLUE FOX, COLUMBIA, DOMINATOR, DONA LILIANA, DONA MARTITA, DONA PAULITA, EXODUS, FLYING CLOUD, GOLDEN DAWN, MAJESTY, PACIFIC VIKING, VIKING EXPLORER, GOLDEN PISCES, LESLIE LEE, MARCY J, MISS BERDIE, PEGASUS, PEGGIE JO, PERSEVERANCE, PREDATOR, RAVEN, ROYAL AMERICAN, SEEKER | 258,508 | 28.257% | 137,590
Arctic Enterprise Association
ARCTIC III, ARCTIC IV, OCEAN ENTERPRISE, PACIFIC ENTERPRISE | 50,008 | 5.466% | 26,615
Northern Victor Fleet Cooperative
NORDIC FURY, PACIFIC FURY, GOLDRUSH, EXCALIBUR II, HALF MOON BAY, SUNSET BAY, COMMODORE, STORM PETREL, POSEIDON, ROYAL ATLANTIC, | 62,545 | 6.837% | 33,291
Peter Pan Fleet Cooperative
AMBER DAWN, AMERICAN BEAUTY, OCEANIC, OCEAN LEADER, WALTER N | 6,584 | 0.720% | 3,506
Unalaska Cooperative
ALASKA ROSE, BERING ROSE, DESTINATION, GREAT PACIFIC, MESSIAH, MORNING STAR, MS AMY, PROGRESS, SEA WOLF, VANGUARD, WESTERN DAWN | 106,714 | 11.665% | 56,799
UniSea Fleet Cooperative
ALSEA, AMERICANEAGLE, ARCTICWIND, ARGOSY, AURIGA, AURORA, DEFENDER, GUN-MAR, NORDIC STAR, PACIFIC MONARCH, SEADAWN, STARFISH, STARLITE, STARWARD | 220,361 | 24.087% | 117,285
Westward Fleet Cooperative
A.J., ALASKAN COMMAND, ALYESKA, CAITLIN ANN, CHELSEA K, HICKORY WIND, FIERCE ALLEGIANCE, OCEAN HOPE 3, PACIFIC KNIGHT, PACIFIC PRINCE, VIKING, WESTWARD¹ | 153,917 | 16.824% | 81,920
Open access AFA vessels | 56,215 | 6.145% | 29,921
Total 2000 inshore pollock allocation | 914,851 | 100% | 486,922
¹ Under § 679.61(e)(1) the individual catch history for each vessel is equal to the vessel's best 2 of 3 years inshore pollock landings from 1995 through 1997 and includes landings to catcher/processors for vessels that made 500 or more mt of landings to catcher/processors from 1995 through 1997.

Details concerning the basis for this action are contained in the preambles to the original emergency rules and are not repeated here.

Classification

The Assistant Administrator for Fisheries, NOAA (AA), has determined that the extension of these emergency interim rules is necessary to respond to an emergency situation and that it is consistent with the Magnuson-Stevens Fishery Conservation and Management Act and other applicable laws.

The extension of these emergency interim rules is exempt from review under E.O. 12866.

The AA finds that providing prior notice and opportunity for public comment on this action is impracticable. Failure to extend these two emergency rules and establish final pollock TAC allocations to inshore cooperatives by June 10, 2000, would result in a lapse of necessary AFA regulations for the Bering Sea Subarea C/D season, which opens on June 10, 2000. This emergency action is necessary to meet the AFA requirement to provide inshore pollock cooperatives with allocations of pollock for the 2000 fishing year. Inshore sector cooperatives will provide the inshore industry with the ability to more effectively meet the temporal and spatial dispersion objectives of NMFS' Steller sea lion conservation measures that became effective January 20, 2000 (65 FR 3892, January 25, 2000; 65 FR 36795, June 12, 2000). If this rule is not extended for the Bering Sea subarea combined C/D pollock season, the inshore sector of the BSAI pollock industry will be denied the opportunity to fish under cooperatives during the second half of the 2000 fishing year. Therefore, this sector of the industry would lose an economically valuable method of meeting the temporal and spatial dispersion objectives of NMFS' Steller sea lion conservation measures.

Delay of the C/D season pollock opening to provide for prior notice and public comment on this emergency rule extension would impose significant economic cost on the fishing industry for two reasons. First, by regulation, the ending date for pollock fishing is November 1 of each year to prevent pollock fishing during a winter time period that is critical to Steller sea lions. If the C/D season pollock openings are delayed for a significant period of time, the fleet may have insufficient time to harvest the remaining TAC before November 1 and a significant portion of the TAC could go unharvested. Further, any delay in the season opening will impose significant operational costs on vessels, processors, employees, and other support industries that must plan for and deploy equipment and crews to remote parts of Alaska well in advance of the season opening date. Finally, delay of the C/D season to provide opportunity for public comment would be contrary to the temporal dispersion objective of NMFS' Steller sea lion protection measures because pollock fishing would be concentrated later in the year.

Accordingly, the AA finds that the need not to delay the pollock season openings constitutes good cause to waive the requirement to provide prior notice and an opportunity for public comment pursuant to the authority set forth at 5 U.S.C. 553(b)(B), as such procedures would be impracticable and contrary to the public interest. For the same reasons, the AA finds good cause pursuant to the authority set forth at 5 U.S.C. 553(d)(3) to waive the requirement for a 30-day delay in effective date.

Because prior notice and opportunity for public comment are not required for this rule by 5 U.S.C. 553, or any other law, the analytical requirements of the Regulatory Flexibility Act, 5 U.S.C. 601 et seq., are inapplicable.

The President has directed Federal agencies to use plain language in their communications with the public, including regulations. To comply with that directive, we seek public comment on any ambiguity or unnecessary complexity arising from the language used in this emergency interim rule.

List of Subjects in 50 CFR Part 679

Alaska, Fisheries, Recordkeeping and reporting requirements.

Dated: June 16, 2000.
Andrew A. Rosenberg,
Deputy Assistant Administrator for Fisheries, National Marine Fisheries Service.

For reasons set out in the preamble, 50 CFR part 679 is amended as follows:

50 CFR Chapter VI

PART 679—FISHERIES OF THE EXCLUSIVE ECONOMIC ZONE OFF ALASKA

1. The authority citation for part 679 continues to read as follows:

Authority: 16 U.S.C. 773 et seq., 1801 et seq., and 3631 et seq.

2. In 50 CFR part 679, remove the phrase “applicable through July 20, 2000” and add “applicable through January 16, 2001” in each of the following locations:

§ 679.2, under the definitions of “Appointed agent for service of process,” “Designated cooperative representative,” and paragraph (4) of the definition of “Directed fishing”;

§ 679.5(a)(4)(iv);

§ 679.5(f)(3);

§ 679.5(i)(1)(iii);

§ 679.5(o);

§ 679.20(a)(5)(i)(D);

§ 679.20(d)(1)(iv);

§ 679.21(d)(8);

§ 679.21(e)(3)(v);

§ 679.50(c)(5);

§ 679.50(d)(5);

and the heading for subpart F of 50 CFR part 679.

3. In § 679.4(l), the paragraph heading is revised, paragraph (l)(1)(v) is added, and paragraph (l)(6)(v) is revised to read as follows:

§ 679.4 Permits.

* * * * *

(l) AFA permits (applicable through December 24, 2000).

(1) * * *

(v) Application deadline. All AFA vessel and processor permit applications must be received by the Regional Administrator by December 1, 2000. AFA vessel and processor permit applications received after December 1, 2000, will not be accepted by the Regional Administrator and the applicant will be permanently ineligible to receive the requested AFA permit.

* * * * *

(6) * * *

(v) Application deadline. An inshore cooperative fishing permit application and any subsequent contract amendments that add or subtract vessels must be received by the Regional Administrator by December 1 prior to the year in which the inshore cooperative fishing permit will be in effect. Inshore cooperative fishing permit applications or amendments to inshore fishing cooperative permits received after December 1 will not be accepted by the Regional Administrator for the subsequent fishing year.

* * * * *

4. In § 679.20, paragraph (a)(5)(i)(D) is redesignated as paragraph (a)(5)(i)(C).

[FR Doc. 00-15857 Filed 6-22-00; 8:45 am]

BILLING CODE 3510-22-F